DEPARTMENT OF ENERGY

Federal Energy Regulatory Commission

Combined Notice of Filings

Take notice that the Commission has received the following Natural Gas Pipeline Rate and Refund Report filings:

Filings Instituting Proceedings

Docket Numbers: PR12-24-001.

Applicants: Liberty Utilities (Midstates Natural Gas) Corp.

Description: Submits tariff filing per 284.123/.224: CP12-42-001 ISRS Compliance Filing to be effective 10/6/2014; TOFC: 790.

Filed Date: 10/6/14.

Accession Number: 20141006-5039.

Comments Due: 5 p.m. ET 10/27/14.

284.123(g) Protests Due:

Docket Numbers: PR15-1-000.

Applicants: ONEOK Field Services Company, L.L.C.

Description: Submits tariff filing per 284.123(b)(2)/.: OFS Firm 311 Rate Filing to be effective 11/1/2014; TOFC 760.

Filed Date: 10/2/14.

Accession Number: 20141002-5065.

Comments Due: 5 p.m. ET 10/23/14.

284.123(g) Protests Due:

Docket Numbers: RP15-32-000.

Applicants: Equitrans, L.P.

Description: Tariff Cancellation per 154.602: Terminate Negotiated Rate Agreement—Scharp Resources to be effective 10/7/2014.

Filed Date: 10/6/14.

Accession Number: 20141006-5047.

Comments Due: 5 p.m. ET 10/20/14.

Docket Numbers: RP15-33-000.

Applicants: Algonquin Gas Transmission, LLC.

Description: § 4(d) rate filing per 154.204: Negotiated Rate for BP Energy K# 510771 to be effective 11/1/2014.

Filed Date: 10/6/14.

Accession Number: 20141006-5080.

Comments Due: 5 p.m. ET 10/20/14.

Docket Numbers: RP15-34-000.

Applicants: Enable Mississippi River Transmission, L.

Description: § 4(d) rate filing per 154.204: Negotiated Rate Filing to Amend LER 5680's Attachment A_10-6-14 to be effective 10/6/2014.

Filed Date: 10/6/14.

Accession Number: 20141006-5092.

Comments Due: 5 p.m. ET 10/20/14.

Docket Numbers: RP15-35-000.

Applicants: Natural Gas Pipeline Company of America.

Description: Penalty Revenue Crediting Report of Natural Gas Pipeline Company of America LLC.

Filed Date: 10/6/14.

Accession Number: 20141006-5187.

Comments Due: 5 p.m. ET 10/20/14.

Docket Numbers: RP15-36-000.

Applicants: Florida Gas Transmission Company, LLC.

Description: § 4(d) rate filing per 154.204: Negotiated Rates Filing on 10-7-14 to be effective 10/20/2014.

Filed Date: 10/7/14.

Accession Number: 20141007-5059.

Comments Due: 5 p.m. ET 10/20/14.

Docket Numbers: RP15-37-000.

Applicants: Gulf South Pipeline Company, LP.

Description: § 4(d) rate filing per 154.204: Amendment to Neg Rate Agmt (Questar 37657-96) to be effective 10/8/2014.

Filed Date: 10/8/14.

Accession Number: 20141008-5037.

Comments Due: 5 p.m. ET 10/20/14.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2014.
Nathaniel J. Davis, Sr.,
Deputy Secretary.

[FR Doc. 2014-24883 Filed 10-17-14; 8:45 am]

BILLING CODE 6717-01-P